DEPARTMENT OF HEALTH AND HUMAN SERVICES

Centers for Medicare & Medicaid Services

[CMS-1305-N]

Medicare Program; Request for Nominations to the Advisory Panel on Ambulatory Payment Classification Groups

AGENCY: Centers for Medicare & Medicaid Services (CMS), Department of Health and Human Services (DHHS).

ACTION: Notice.

SUMMARY: This notice invites nominations of members to the Advisory Panel on Ambulatory Payment Classification (APC) Groups (the Panel). One vacancy presently exists on the Panel due to a Panel member's retirement in June 2006. There will be six more vacancies on the Panel between January 1 and September 30, 2007. Consequently, this solicitation is for seven new members.

The purpose of the Panel is to review the APC groups and their associated weights and to advise the Secretary, DHHS, (the Secretary) and the Administrator, CMS, (the Administrator) concerning the clinical integrity of the APC groups and their associated weights. The advice provided by the Panel will be considered as we prepare our annual updates of the hospital Outpatient Prospective Payment System (OPPS) through rulemaking.

The Secretary rechartered the Panel in 2004 for a 2-year period through November 21, 2006. The new Panel Charter will be effective through November 21, 2008.

Nominations: We will consider nominations if they are received no later than 5 p.m. on December 18, 2006. Please mail or deliver nominations to the following address: CMS; Attn: Shirl Ackerman-Ross, Designated Federal Official (DFO), Advisory Panel on APC Groups; Center for Medicare Management, Hospital & Ambulatory Policy Group, Division of Outpatient Care; 7500 Security Boulevard, Mail Stop C4-05-17; Baltimore, MD 21244-1850.

Web Site: For additional information on the APC Panel and updates to the Panel's activities, search our Web site at the following: http://www.cms.hhs.gov/FACA/05_AdvisoryPanelonAmbulatoryPaymentClassificationGroups.asp#TopOfPage.

Advisory Committees' Information Lines: You may also refer to the CMS Federal Advisory Committee Hotlines at 1-877-449-5659 (toll-free) or 410-786-9379 (local) for additional information.

FOR FURTHER INFORMATION CONTACT: Persons wishing to nominate individuals to serve on the Panel or to obtain further information may also contact Shirl Ackerman-Ross, the DFO, at CMS_APCPanel@cms.hhs.gov or call 410-786-4474. News media representatives should contact the CMS Press Office at 202-690-6145.

SUPPLEMENTARY INFORMATION:

I. Background

The Secretary is required by section 1833(t)(9)(A) of the Social Security Act (the Act), as amended and redesignated by sections 201(h) and 202(a)(2) of the Medicare, Medicaid, and SCHIP Balanced Budget Refinement Act of 1999 (BBRA) (Pub. L. 106-113), to consult with an expert, outside advisory panel regarding the clinical integrity of the APC groups and relative payment weights that are components of the hospital OPPS.

The Panel meets up to three times annually to review the APC groups and to provide technical advice to the Secretary and the Administrator. We consider the technical advice provided by the Panel in preparing the proposed rule to update the OPPS for the next calendar year.

The Panel may consist of a chair and up to 15 members who are full-time employees of hospitals, hospital systems, or other Medicare providers that are subject to the OPPS. (For purposes of the Panel, consultants or independent contractors are not considered to be full-time employees in these organizations.)

The Administrator selects the Panel membership based upon either self-nominations or nominations submitted by providers or interested organizations.

The current Panel members are as follows: (The asterisk [*] indicates a Panel member who will retire or whose term expires within 2007.)

• E.L. Hambrick, M.D., J.D., Chair, a CMS Medical Officer.

• *Marilyn K. Bedell, M.S., R.N., O.C.N.

• Gloryanne Bryant, B.S., R.H.I.A., R.H.I.T., C.C.S.

• *Albert Brooks Einstein, Jr., M.D.

• Hazel Kimmel, R.N., C.C.S., C.P.C.

• *Sandra J. Metzler, M.B.A., R.H.I.A.

• Thomas M. Munger, M.D.

• *Frank G. Opelka, M.D.

• Louis Potters, M.D.

• James V. Rawson, M.D.

• *Lou Ann Schraffenberger, M.B.A., R.H.I.A.

• Judie S. Snipes, R.N., M.B.A., C.H.E.

• *Timothy Gene Tyler, Pharm.D.

• Kim Allen Williams, M.D.

• Robert M. Zwolak, M.D.

Panel members serve without compensation, according to an advance written agreement; however, for the meetings, we reimburse travel, meals, lodging, and related expenses in accordance with standard Government travel regulations.

We have a special interest in attempting to ensure, while taking into account the nominee pool, that the Panel is diverse in all respects to the following: Geography; rural or urban practice; race; ethnicity; sex; disability; medical or technical specialty; and type of hospital, hospital health system, or other Medicare provider.

The Secretary, or his designee, appoints new members to the Panel from among those candidates determined to have the required expertise. New appointments are made in a manner that attempts to ensure a balanced membership under the guidelines of the Federal Advisory Committee Act.

II. Criteria for Nominees

All nominees must have technical expertise that enables them to participate fully in the work of the Panel. Such expertise encompasses hospital payment systems, hospital medical-care delivery systems, outpatient payment requirements, APC Groups, Physicians' Current Procedural Terminology Codes, the use and payment of drugs and medical devices in the outpatient setting, and other forms of relevant expertise.

It is not necessary for a nominee to possess expertise in all of the areas listed, but each must have a minimum of 5 years experience and currently have full-time employment in his or her area of expertise. Members of the Panel serve overlapping terms of up to 4 years based on the needs of the Panel and contingent upon the rechartering of the Panel.

Any interested person or organization may nominate one or more qualified individuals. Self-nominations will also be accepted. Each nomination must include the following:

• Letter of Nomination;

• Curriculum Vita of the nominee; and

• Written statement from the nominee that the nominee is willing to serve on the Panel under the conditions described in this notice and further specified in the Charter.

III. Copies of the Charter

To obtain a copy of the Panel's Charter, submit a written request to the DFO at the address provided or by e-mail at CMS_APCPanel@cms.hhs.gov, or call her at 410-786-4474. Copies of the Charter are also available on the Internet at the following: http://www.cms.hhs.gov/FACA/05_AdvisoryPanelonAmbulatoryPaymentClassificationGroups.asp#TopOfPage.

Authority: Section 1833(t)(9)(A) of the Act (42 U.S.C. 1395l(t)(9)(A)). The Panel is governed by the provisions of Pub. L. 92-463, as amended (5 U.S.C. Appendix 2).

Dated: October 31, 2006.
Leslie V. Norwalk,
Acting Administrator, Centers for Medicare & Medicaid Services.

[FR Doc. E6-19432 Filed 11-22-06; 8:45 am]

BILLING CODE 4120-01-P